DEPARTMENT OF ENERGY

Federal Energy Regulatory Commission

[Project No. 2206-021]

Progress Energy Carolinas, Inc.; Notice of Availability of Final Environmental Assessment

December 13, 2004.

In accordance with the National Environmental Policy Act of 1969 and the Federal Energy Regulatory Commission's (Commission) regulations, 18 CFR part 380 (Order No. 486, 52 FR 47897), the staff of the Office of Energy Projects' has prepared a Final Environmental Assessment (FEA) for Progress Energy Carolina Inc.'s application for amendment of license. On December 28, 2001, Progress Energy Carolinas, Inc., licensee for the Tillery Development of the Yadkin-Pee Dee River Project, FERC No. 2206, filed a shoreline management plan (SMP) as required in the September 20, 1999, order amending the license. The SMP is for the Tillery Development, which is located on the Yadkin-Pee Dee River in Montgomery and Stanly Counties, North Carolina.

The FEA contains the staff's analysis of the potential environmental impacts of implementing the SMP and concludes that approval of the plan would not constitute a major federal action significantly affecting the quality of the human environment.

A copy of the FEA is attached to an order titled “Order Modifying and Approving Shoreline Management Plan” issued on November 24, 2004, which is available for review at the Commission in the Public Reference Room, or it may be viewed on the Commission's Web site at http://www.ferc.gov using the “eLibrary” link. Enter the docket number (prefaced by P-) and excluding the last three digits, in the docket number field to access the document. For assistance, please contact FERC Online Support at FERCOnlineSupport@ferc.gov or toll-free (866) 208-3676, or for TTY, contact (202) 502-8659.

For further information, contact Shana High at 202-502-8674.

Magalie R. Salas,
Secretary.

[FR Doc. E4-3719 Filed 12-17-04; 8:45 am]

BILLING CODE 6717-01-P